DEPARTMENT OF AGRICULTURE

Forest Service

Nez Perce National Forest, Idaho County; ID; Designated Route and Motorized Vehicle Use

AGENCY: Forest Service, USDA.

ACTION: Notice of intent to prepare an environmental impact statement.

SUMMARY: The Nez Perce National Forest is undergoing planning efforts to comply with the designated routes and areas for motor vehicle use rule of November 9, 2005. The forest is proposing to analyze motorized routes and areas forest-wide to determine a base system, while considering the needs of the users, resources effects, rule requirements, and fiscal capabilities for continued maintenance.

DATES: Comments concerning the scope of the analysis must be received by 45 days after the date of publication in the Federal Register. The draft environmental impact statement is expected June of 2008 and the final environmental impact statement is expected February 2009.

ADDRESSES: Send written comments to Jane Cottrell, Forest Supervisor, 1005 Highway 13, Grangeville, ID 83530, Attn: Designated Routes and Areas for Motor Vehicle Use.

The Nez Perce National Forest has scheduled public meetings, to be held in three separate locations, to introduce this project and discuss the most effective ways the public can become involved. Meetings will take place in Elk City, ID on May 29, in Grangeville, ID on May 30, and in Riggins, ID on May 31, 2007. Additional information will be provided in the local newspaper prior to meeting times.

FOR FURTHER INFORMATION CONTACT: Alexandra Botello, Project Lead, 1005 Highway 13, Grangeville, ID 83530, Attn: Designated Routes and Areas for Motor Vehicle Use.

SUPPLEMENTARY INFORMATION:

Purpose and Need for Action

In November 2005, the USDA published the Travel Management; Designated Routes and Areas for Motor Vehicle Use; Final Rule [36 CFR parts 212, 251, 261, and 295] (the rule). This rule requires designations of those roads, trails, and areas that are open to motor vehicle use. Designations will be made by class of vehicle, and if appropriate, by time of year. The final rule prohibits the use of motor vehicles off the designated system, as well as the use of motor vehicles on routes and in areas not consistent with those designations. The rule seeks to create a system of routes and areas where motorized use is appropriate. The primary difference from our current system that will occur when implementing the rule is that routes and areas are closed to motorized use unless specifically designated open.

The following vehicles and uses are exempt from Provisions in the rule [36 CFR 212.51]:

Aircraft, Watercraft, Over-snow vehicles, Limited administrative use by Forest Service, Use of any fire, military, emergency, of law enforcement vehicles for emergency purposes, Authorized use of any combat or combat support vehicle for national defense purposes, Law enforcement [in] response to violations of law, and, any motor vehicle use that is specifically authorized under a written authorization issued under Federal law or regulation.

Current direction for the Nez Perce National Forest, under the Nez Perce National Forest Plan (1987) Amendment No. 2, October 1988, allows cross-country motorized travel unless otherwise designated closed.

The Designated Routes and Areas for Motor Vehicle Use planning effort is designed to bring the direction for the Nez Perce National Forest in compliance with the Executive orders of the rule that “direct Federal agencies to ensure that the use of off road vehicles on public lands will be controlled and directed so as to protect the resources of those lands, to promote the safety of all users of those lands, and to minimize conflicts among various uses of those lands”.

Proposed Action

The proposed action is to designate the current National Forest System (NFS) motorized routes on the Nez Perce National Forest, under class of vehicle and seasons of use, as they are presently (April, 2007). This action would close the forest to cross-country motorized travel except in specifically designated areas or to over snow vehicle use (see attached map and legend).

The proposed action also includes a distance 300 feet from center of road which allows for motorized use for the purposes of dispersed camping only, in areas where geography and resource protection are not limiting factors (e.g., cliffs, streams, etc.).

This action does not supersede CFR 261.12 National Forest System roads and trails; * * * prohibition (c) Damaging and leaving in a damaged condition any such road, trail, or segment thereof. Nor will this action supersede CFR 261.15 Use of vehicles off roads; It is prohibited to operate any vehicle off National Forest System, State, or County roads; (h) In a manner which damages or unreasonably disturbs the land, wildlife, or vegetative resources.

Responsible Official

Jane Cottrell, Forest Supervisor, Nez Perce National Forest, 1005 Highway 13, Grangeville, ID 83530 is the responsible official for this proposal.

Nature of Decision To Be Made

The Nez Perce National Forest will decide what routes and areas are appropriate to designate and manage for motor vehicle use by class of vehicle and seasons of use. Additionally, we will determine whether to amend the Nez Perce Forest Plan to remove certain existing standards applicable to motorized routes and area management.

Scoping Process

The U.S. Forest Service uses the process required by the National Environmental Policy Act (NEPA). NEPA requires a systematic, interdisciplinary approach to ensure integrated application of the natural and social sciences and the environmental design arts in any planning and decisionmaking that affects the human environment (42 U.S.C. 4332(2)(A)). Comments are accepted for 45 days after notification in the Federal Register. These comments help identify significant issues and/or eliminate nonsignificant issues from detailed study in the environmental impact statement.

Comment Requested

This notice of intent initiates the scoping process which guides the development of the environmental impact statement. The Nez Perce National Forest is seeing comments and issues you may have regarding this project. Comments are most useful if they are specific.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519,553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement.

To assist the Forest Service in identifying and considering issues nd concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority:

40 CFR 1501.7 and 1508.22; Forest Service Handbook 1909.15, Section 21.)

Dated: May 10, 2007.
Jane L. Cottrell,
Nez Perce National Forest Supervisor.

[FR Doc. 07-2419 Filed 5-16-07; 8:45 am]

BILLING CODE 3410-11-M